FEDERAL DEPOSIT INSURANCE CORPORATION

Agency Information Collection Activities: Proposed Revision of Information Collection; Comment Request

AGENCY: Federal Deposit Insurance Corporation (FDIC).

ACTION: Notice and request for comment.

The FDIC, as part of its continuing effort to reduce paperwork and respondent burden and as required by the Paperwork Reduction Act of 1995 (44 USC chapter 35), invites the general public and other Federal agencies to comment on proposed revisions to the survey collection instruments for its second National Survey of Banks' Efforts to Serve the Unbanked and Underbanked, currently approved under OMB Control No. 3064-0158, scheduled to be conducted in mid-2011. The collection is mandated by section 7 of the Federal Deposit Insurance Reform Conforming Amendments Act of 2005 (“Reform Act”) (Pub. L. 109-173), which calls for the FDIC to conduct ongoing surveys on efforts by insured depository institutions to bring those individuals and families who have rarely, if ever, held a checking account, a savings account or other type of transaction or check cashing account at an insured depository institution (hereafter in this section referred to as the `unbanked') into the conventional finance system.” In addition to gathering information on the efforts of FDIC-insured depository institutions to bring unbanked individuals and families into the conventional finance system, the Bank Survey collects information on their efforts to serve underbanked populations. Underbanked populations include individuals who have an account with an insured depository but also rely on nonbank alternative financial service providers for transaction services or high cost credit products.

DATES: Comments must be submitted on or before February 22, 2011.

ADDRESSES: Interested parties are invited to submit written comments by any of the following methods. All comments should refer to the “National Survey on Banks' Efforts to Serve the Unbanked and Underbanked”: http://www.FDIC.gov/regulations/laws/federal/.

E-mail: comments@fdic.gov. Please include the name and number of the collection in the subject line of the message.

Mail: Leneta Gregorie (202-898-3719), Counsel, Legal Division, Federal Deposit Insurance Corporation, 550 17th Street, NW., Washington, DC 20429.

Hand Delivery: Comments may be hand-delivered to the guard station at the rear of the 550 17th Street Building (located on F Street), on business days between 7 a.m. and 5 p.m.

FOR FURTHER INFORMATION CONTACT: Interested members of the public may obtain additional information about the collection, including a copy of the proposed collection and related instructions, without charge, by contacting Leneta Gregorie at the address identified above, or by calling (202) 898-3719. Copies of the survey instruments may also be accessed on-line, at http://www.fdic.gov/regulations/laws/federal/index.html, directly beneath the link to this Federal Register notice.

SUPPLEMENTARY INFORMATION: The National Survey on Banks' Efforts to Serve the Unbanked and Underbanked (Bank Survey) collection of information consists of two related survey instruments: (1) a survey of insured depository institution headquarters offices regarding business strategies for serving the unbanked and underbanked; and (2) a survey of branches of insured depository institutions regarding specific methods used to reach the underserved and specific products and services offered at each location. The estimated burden for the surveys is as follows:

1. Headquarters Survey

OMB Number: 3064-0158.

Frequency of Response: once.

Affected Public: FDIC-insured depository institutions headquarters offices.

Estimated Number of Respondents: 480.

Estimated Time per Response: 30 minutes per respondent.

Estimated Burden: 0.5 hours × 480 respondents = 240 hours.

2. Branch Office Survey

OMB Number: 3064-0158.

Frequency of Response: Once.

Affected Public: FDIC-insured depository institutions branch offices.

Estimated Number of Respondents: 1,300.

Estimated Time per Response: 30 minutes per respondent.

Estimated Burden: 0.5 hours × 1,300 respondents = 650 hours.

Total estimated burden for this collection: 240 hours + 650 hours = 890 hours.

General Description of Collection

The FDIC has a number of initiatives underway to encourage practical solutions to ensure that all consumers have reasonable access to full service banking and other financial services. The FDIC believes that insured depositories can provide a path into the financial mainstream for those who need these financial services, and that depository institutions can create an array of affordable lending services to meet the needs of all their customers. Currently a significant segment of the population relies on a mix of non-bank financial service providers for their needs. The FDIC has undertaken a series of investigations in this area, including the Bank Survey. The survey is mandated by section 7 of the Reform Act, which calls for the FDIC to conduct ongoing surveys “on efforts by insured depository institutions to bring those individuals and families who have rarely, if ever, held a checking account, a savings account or other type of transaction or check cashing account at an insured depository institution (hereafter in this section referred to as the `unbanked') into the conventional finance system.” The Reform Act specifically mandates that the FDIC consider the following factors and questions in conducting the survey:

“(A) To what extent do insured depository institutions promote financial education and financial literacy outreach?”

“(B) Which financial education efforts appear to be the most effective in bringing `unbanked' individuals and families into the conventional finance system?”

“(C) What efforts are insured institutions making at converting `unbanked' money order, wire transfer, and international remittance customers into conventional account holders?”

“(D) What cultural, language and identification issues as well as transaction costs appear to most prevent `unbanked' individuals from establishing conventional accounts?”

“(E) What is a fair estimate of the size and worth of the `unbanked' market in the United States?”

In addition to these mandated objectives, the FDIC seeks to identify and quantify the extent to which institutions serve the needs of the unbanked and underbanked; identify the characteristics of institutions that are reaching out to and serving the unbanked and underbanked; identify efforts (for example, practices, programs, alliances) of institutions to serve the unbanked and underbanked; and identify potential barriers that affect the ability of institutions to serve the unbanked and underbanked.

In its inaugural survey effort, the first of its kind to be conducted at the national level, the FDIC conducted a two-pronged survey—a sample survey of FDIC-insured depository institutions and a limited number of case studies of FDIC-insured depository institutions that were employing innovative methods to serve unbanked and underbanked populations. The results of the initial survey effort, which were released in February 2009, showed that while most banks were aware of significant unbanked and underbanked populations in their areas, more could be done to reach out to these important markets. A copy of the survey findings can be accessed at the following link: http://www.fdic.gov/unbankedsurveys/. In this second Bank Survey survey effort, the FDIC proposes to sample survey FDIC-insured depository institution at the headquarters and branch office level on their efforts to meet the needs of underserved populations. By so doing, the survey will provide insights into relevant headquarter strategies as well as offerings at the branch level. This approach will also enable the FDIC to analyze survey results by bank size class as well as by geographic location, including efforts of branch offices located in low to-moderate income versus other geographic areas.

Request for Comment

Comments are invited on: (a) Whether the collection of information is necessary for the proper performance of the FDIC's functions, including whether the information has practical utility; (b) the accuracy of the estimates of the burden of the information collection; (c) ways to enhance the quality, utility, and clarity of the information to be collected; and (d) ways to minimize the burden of the information collection on respondents, including through the use of automated collection techniques or other forms of information technology. The FDIC will consider all comments to determine the extent to which the proposed information collection should be modified prior to submission to OMB for review and approval. After the comment period closes, comments will be summarized or included in the FDIC's request to OMB for approval of the collection. All comments will become a matter of public record.

Dated at Washington, DC, this 20th day of December, 2010.
Federal Deposit Insurance Corporation.
Valerie J. Best,
Assistant Executive Secretary.

[FR Doc. 2010-32282 Filed 12-22-10; 8:45 am]

BILLING CODE P